DEPARTMENT OF HEALTH AND HUMAN SERVICES

Health Resources and Services Administration

Agency Information Collection Activities: Proposed Collection: Public Comment Request; Information Collection Request Title: Ryan White HIV/AIDS Program: Expenditures Reports, OMB No. 0915-0390—Revision

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than March 2, 2026.

ADDRESSES: Submit your comments to paperwork@hrsa.gov or mail the HRSA Information Collection Clearance Officer, Room 13N82, 5600 Fishers Lane, Rockville, Maryland 20857.

FOR FURTHER INFORMATION CONTACT: To request more information on the proposed project or to obtain a copy of the data collection plans and draft instruments, email paperwork@hrsa.gov or call Samantha Miller, the HRSA Information Collection Clearance Officer, at (301) 443-3983.

SUPPLEMENTARY INFORMATION: When submitting comments or requesting information, please include the ICR title for reference.

Information Collection Request Title: Ryan White HIV/AIDS Program: Expenditures Reports Forms, OMB No. 0915-0390—Revision.

Abstract: HRSA administers the Ryan White HIV/AIDS Program (RWHAP) authorized under Title XXVI of the Public Health Service Act. The RWHAP Expenditures Reports allow HRSA to monitor and track the use of grant funds for compliance with statutory, program and grants requirements. Recipients funded under RWHAP Parts A, B, C, and D are required to report financial data to HRSA at the end of their grant budget period. The Expenditures Report requests information recipients already collect, including the use of RWHAP grant funds for core medical and support services; and on various program components, such as administration, planning and evaluation, and clinical quality management. RWHAP Parts A and B recipients funded under the Ending the HIV Epidemic in the U.S. (EHE) initiative are required to report expenditures of the grant budget period in the EHE Expenditure Report. This allows HRSA to track and report progress toward meeting the EHE goals.

For this submission, HRSA proposes to extend the following reports:

• RWHAP Part A Expenditures Report.

• RWHAP Part B Expenditures Report.

• RWHAP Part B Supplemental Expenditures Report.

• RWHAP Part C Expenditures Report.

• RWHAP Part D Expenditures Report.

• Ending the HIV Epidemic (EHE) Initiative Expenditures Reports.

Need and Proposed Use of the Information: Accurate expenditure and service contract records of recipients receiving RWHAP and EHE funding are necessary for HRSA to fulfill its monitoring and oversight responsibilities.

Likely Respondents: RWHAP Part A, Part B, Part C, Part D and EHE recipients.

Burden Statement: Burden in this context means the time expended by persons to generate, maintain, retain, disclose, or provide the information requested. This includes the time needed to review instructions; to develop, acquire, install, and use technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Part A Expenditures Report | 52 | 1 | 52 | 2 | 104
Part B Expenditures Report | 54 | 1 | 54 | 6 | 324
Part B Supplemental Expenditures Report | 33 | 1 | 33 | 2 | 66
Part C Expenditures Report | 346 | 1 | 346 | 4 | 1,384
Part D Expenditures Report | 116 | 1 | 116 | 4 | 464
EHE Expenditures Reports | 47 | 1 | 47 | 4 | 188
Total | 648 |  | 648 |  | 2,530

HRSA specifically requests comments on (1) the necessity and utility of the proposed information collection for the proper performance of the agency's functions; (2) the accuracy of the estimated burden; (3) ways to enhance the quality, utility, and clarity of the information to be collected; and (4) the use of automated collection techniques or other forms of information technology to minimize the information collection burden.

Maria G. Button,
Director, Executive Secretariat.

[FR Doc. 2025-24089 Filed 12-30-25; 8:45 am]

BILLING CODE 4165-15-P